ENVIRONMENTAL PROTECTION AGENCY

40 CFR Parts 281 and 282

[EPA-R08-UST-2023-0563; FRL-11550-01-R8]

South Dakota: Final Approval of State Underground Storage Tank Program Revisions, Codification, and Incorporation by Reference

AGENCY: Environmental Protection Agency (EPA).

ACTION: Proposed rule.

SUMMARY: The EPA is proposing to grant approval to the State of South Dakota for the changes to its Underground Storage Tank (UST) program submitted by the State under the Solid Waste Disposal Act, as amended, commonly referred to as the Resource Conservation and Recovery Act (RCRA). EPA has determined that these changes satisfy all requirements for UST program approval and is approving the State's changes through a direct final action. This action also proposes to codify South Dakota's state program as revised by South Dakota and approved by the EPA and to incorporate by reference the State regulations that we have determined meet the requirements for approval.

DATES: Send written comments by June 14, 2024.

ADDRESSES: Submit your comments, identified by Docket ID No. EPA-R08-UST-2023-0563 by mail to Jeff Fitzgibbons, Resource Conservation and Recovery Program, EPA Region 8, 1595 Wynkoop Street, Denver, Colorado 80202-1129. You may also submit comments electronically or through hand delivery/courier by following the detailed instructions in the ADDRESSES section of the direct final rule located in the “Rules and Regulations” section of this Federal Register.

FOR FURTHER INFORMATION CONTACT: Jeff Fitzgibbons at telephone number: (303) 312-6633, email address: fitzgibbons.jeffrey@epa.gov.

SUPPLEMENTARY INFORMATION: In the “Rules and Regulations” section of this Federal Register, the EPA is approving changes to the South Dakota program as a direct final rule. The EPA did not make a proposal to the direct final rule because we believe this action is not controversial and do not expect comments that oppose it. We have explained the reasons for this approval in the preamble of the direct final rule. The State's federally-authorized and codified UST program, as revised pursuant to this action, will remain subject to the EPA's inspection and enforcement authorities under sections 9005 and 9006 of RCRA subtitle I and other applicable statutory and regulatory provisions.

Unless EPA receives written comments that oppose the approval during the comment period, the direct final rule will become effective on the date it establishes, and we will not take further action on this proposal. If we get comments that oppose the authorization, we will withdraw the direct final rule and it will not take immediate effect. We will then respond to public comments in a later final rule based on this proposal. You may not have another opportunity for comment. If you want to comment on this action, you must do so at this time.

Dated: April 30, 2024.
KC Becker,
Regional Administrator, Region 8.

[FR Doc. 2024-10366 Filed 5-14-24; 8:45 am]

BILLING CODE 6560-50-P